COUNCIL ON ENVIRONMENTAL QUALITY

National Environmental Policy Act Task Force

AGENCY: Council on Environmental Quality.

ACTION: Notice of availability and public meetings.

SUMMARY: The Council on Environmental Quality (CEQ) established a National Environmental Policy Act (NEPA) Task Force to review the current NEPA implementing practices and procedures in the following areas: Technology and information management; Federal and intergovernmental collaboration; programmatic analyses and subsequent tiered documents; and adaptive management and monitoring. In addition, the NEPA Task Force reviewed other NEPA implementation issues such as the level of detail included in agencies' procedures and documentation for promulgating categorical exclusions; the structure and documentation of environmental assessments; and other implementation practices that would benefit federal agencies.

CEQ announces the availability of “The Task Force Report to the Council on Environmental Quality—Modernizing NEPA Implementation” that was published and presented to CEQ on September 24, 2003. The Report contains recommendations designed to improve federal agency decision making by modernizing the NEPA process. To further the work of the NEPA Task Force, CEQ will hold a series of regional public roundtables to raise public awareness of the NEPA Task Force draft recommendations and discuss the recommendations and their implementation. The first public roundtable will be held in Shelton, Washington on October 30-31, 2003, at the Squaxin Island Library and Research Center. Representatives from important constituent groups that have worked on NEPA issues have been invited to participate in a discussion of the recommendations. The Squaxin Island Library and Research Center, dedicated in 2002, is a gathering and meeting place where all generations can communicate and share in the living culture and traditions of the Tribe and the environment of South Pugel Sound. Information about the Center is at http://www.squaxinisland.org/pages/mlrc/mlrcinfo.html. The Squaxin Island people are opening their Center to serve in its traditional role as a meeting and learning center for the community. The center is located about sixty miles south of Seattle-Tacoma International Airport and can be reached from the airport by taking I-5 S to US-101 N, and then proceeding right onto SE Old Olympic HWY, right onto SE Klah Che Min Drive and right onto SE Squaxin Drive. Announcements of future roundtables will be published on the NEPA Task Force web site and in the Federal Register.

DATES: The first NEPA Task Force recommendations public roundtable will be held on October 30 and 31 at the Squaxin Island Library and Research Center located at 70 SE Squaxin Lane, Shelton, Washington 98584. The session on October 30 will begin at 9 a.m. and interested members of the public will have an opportunity to present their views at 3:30 p.m. following the roundtable discussion. That session will end in the evening after the public's views have been presented. The session on October 31 will begin at 9 a.m. and interested members of the public will have an opportunity to present their views at 11 a.m. following the roundtable discussion.

ADDRESSES: Interested parties can review the Task Force report via the CEQ Web site at http://www.whitehouse.gov/ceq/ or the NEPA Task Force Web site at http://www.ceq.eh.doe.gov/ntf/. If you would like a printed copy, please mail a request to The NEPA Task Force, 722 Jackson Place, NW., Washington, DC 20585, or contact Bill Perhach at (202) 395-0826 to request a copy.

Dated: September 24, 2003.
James L. Connaughton,
Chairman, Council on Environmental Quality.

[FR Doc. 03-24527 Filed 9-26-03; 8:45 am]

BILLING CODE 3125-01-M